DEPARTMENT OF COMMERCE

International Trade Administration

[A-427-801, A-428-801, A-475-801, A-588-804, A-559-801, A-412-801]

Antifriction Bearings and Parts Thereof From France, Germany, Italy, Japan, Singapore, and the United Kingdom: Extension of Time Limit for Final Results of Antidumping Duty Administrative Reviews

AGENCY: Import Administration, International Trade Administration, Department of Commerce.

ACTION: Notice of extension of time limit for final results of antidumping duty administrative reviews.

SUMMARY: The Department of Commerce is extending the time limit for the final results of the administrative reviews of the antidumping duty orders on antifriction bearings and parts thereof from France, Germany, Italy, Japan, Singapore, and the United Kingdom. The final results of these reviews are now due August 9, 2004.

EFFECTIVE DATE: May 3, 2004.

FOR FURTHER INFORMATION CONTACT: Sochieta Moth, (202) 482-0168, or Richard Rimlinger, (202) 482-4477, AD/CVD Enforcement 3, Import Administration, International Trade Administration, U.S. Department of Commerce, Washington, DC 20230.

SUPPLEMENTARY INFORMATION:

Background

At the request of interested parties, the Department initiated administrative reviews of the antidumping duty orders on antifriction bearings and parts thereof from France, Germany, Italy, Japan, Singapore, and the United Kingdom for the period May 1, 2002, through April 30, 2003. See, Initiation of Antidumping and Countervailing Duty Administrative Reviews and Requests for Revocation in Part, 68 FR 39055, (July 1, 2003), and Initiation of Antidumping and Countervailing Duty Administrative Reviews, Requests for Revocation in Part and Deferral of Administrative Reviews, 68 FR 44524, (July 29, 2003). On February 9, 2004, the Department published its preliminary findings. See Antifriction Bearings and Parts Thereof from France, Germany, Italy, Japan, Singapore, and the United Kingdom: Preliminary Results of Antidumping Duty Administrative Reviews, Partial Rescission of Administrative Reviews, Notice of Intent to Rescind Administrative Reviews, and Notice of Intent to Revoke Order in Part, 69 FR 5950, (February 9, 2004). The final results of reviews were originally scheduled for June 8, 2040.

Extension of Time Limit for Final Results of Antidumping Duty Administrative Reviews

Section 751(a)(3)(A) of the Tariff Act of 1930, as amended (the Act), requires the Department to issue the final results of an antidumping duty annual review within 120 days of the date on which the preliminary results are published. If the Department concludes that it is not practicable to issue the results by the original deadline, it may extend the 120-day period to 180 days. Completion of the final results of these reviews within this 120-day period is not practicable because of the large number of respondents and the complexity of the issues raised in these reviews. Therefore, we are extending the time period for issuing the final results of the review by 60 days, until August 9, 2004.

This notice is published in accordance with section 751(a)(3)(A) of the Act and § 351.213(h)(2) of the Department's regulations.

Dated: April 27, 2004.
Jeffrey May,
Deputy Assistant Secretary for AD/CVD Enforcement.

[FR Doc. 04-9997 Filed 4-30-04; 8:45 am]

BILLING CODE 3510-DS-M